DEPARTMENT OF ENERGY

Federal Energy Regulatory Commission

[Docket No. RP99-513-008]

Questar Pipeline Company; Notice of Tariff Filing

October 5, 2001.

Take notice that on October 1, 2001, pursuant to 18 CFR 154.7 and 154.203, and as provided by Section 30 (Negotiated Rates) to the General Terms and Conditions of Part 1 of Questar Pipeline Company's (Questar) FERC Gas Tariff, Questar filed a tariff filing to implement a negotiated-rate contract as authorized by Commission orders issued October 27, 1999, and December 14, 1999, in Docket Nos. RP99-513, et al. The Commission approved Questar's request to implement a negotiated-rate option for Rate Schedules T-1, NNT, T-2, PKS, FSS and ISS shippers. Questar submitted its negotiated-rate filing in accordance with the Commission's Policy Statement in Docket Nos. RM95-6-000 and RM96-7-000 (Policy Statement) issued January 31, 1996.

Ninth Revised Sheet No. 7

Second Revised Sheet No. 7A

First Revised Volume No. 1

Questar requested waiver of 18 CFR 154.207 so that Ninth Revised Sheet No. 7 and Second Revised Sheet No. 7A to First Revised Volume No. 1 of its FERC Gas Tariff may become effective October 1, 2001.

A copy of this filing has been served upon Questar's customers, the Public Service Commission of Utah and the Public Service Commission of Wyoming.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-25632 Filed 10-11-01; 8:45 am]

BILLING CODE 6717-01-P